DEPARTMENT OF COMMERCE

National Institute of Standards and Technology

National Artificial Intelligence Advisory Committee

AGENCY: National Institute of Standards and Technology, Department of Commerce.

ACTION: Notice of Open Meeting.

SUMMARY: The National Institute of Standards and Technology (NIST) announces that the National Artificial Intelligence Advisory Committee (NAIAC or Committee) will hold a virtual meeting with briefing sessions. This meeting will be held via web conference on Wednesday, September 4, 2024, from 2:00 p.m.-5:00 p.m. Eastern Time. The primary purpose of this meeting is for NAIAC to receive a briefing by outside panelists on AI in the workforce and a separate briefing from the Law Enforcement Subcommittee on topics related to AI in law enforcement specific to facial recognition technology. The final agenda will be posted on the NIST website at https://www.nist.gov/itl/national-artificial-intelligence-advisory-committee-naiac.

DATES: The NAIAC will meet on Wednesday, September 4, 2024, from 2:00 p.m.-5:00 p.m. Eastern Time.

ADDRESSES: The meeting will be held via webinar. Please note participation instructions under the SUPPLEMENTARY INFORMATION section of this notice.

FOR FURTHER INFORMATION CONTACT: Cheryl L. Gendron, Designated Federal Officer, Information Technology Laboratory, National Institute of Standards and Technology, Telephone: (301) 975-2785, Email address: cheryl.gendron@nist.gov. Please direct any inquiries to the committee at naiac@nist.gov.

SUPPLEMENTARY INFORMATION: Pursuant to the Federal Advisory Committee Act, as amended, 5 U.S.C. 1001 et seq., notice is hereby given that the NAIAC will meet virtually as set forth in the DATES section of this notice. The meeting will be open to the public.

The NAIAC is authorized by Section 5104 of the National Artificial Intelligence Initiative Act of 2020 (Pub. L. 116-283), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

The primary purpose of this meeting is for NAIAC to receive a briefing by outside panelists on AI in the workforce and a separate briefing from the Law Enforcement Subcommittee on topics related to AI in law enforcement specific to facial recognition technology. The final agenda will be posted on the NIST website at https://www.nist.gov/itl/national-artificial-intelligence-advisory-committee-naiac.

Workforce Briefing: The Workforce Working Group of the NAIAC will host part two of a panel that discusses AI and Just Transitions for American Workers, continuing the discussions from the August 1, 2024, briefing. Invited speakers will explore how the nation can take innovative worker-first approaches to help people enjoy lifelong career success. Ensuring that workers have job experiences that are dignified, career-enhancing, and allow for job mobility is not only an imperative for worker and community wellbeing; it ensures a stronger and more competitive U.S. economy. The panel will explore encouraging a pragmatic, multi-disciplinary, and multi-stakeholder approach to the problem. The invited guests represent organizations, experts, workers, and employers interested in offering a range of perspectives and ideas supporting worker success in an increasingly AI-influenced workforce and economy.

Law Enforcement Use of Facial Recognition Technology Briefing: The Law Enforcement Subcommittee of the NAIAC (NAIAC LE) will brief the NAIAC on AI in law enforcement specific to facial recognition technology. Law enforcement and agencies often need to identify individuals for a wide variety of reasons. Video and photographic evidence obtained from surveillance footage, bystanders, social media, and other sources may provide crucial evidence about potential suspects, victims, witnesses, or community members in distress. Facial recognition technologies (FRTs) can allow law enforcement officers to identify these individuals with greater frequency, speed, and accuracy. Therein lies both the potential and the risk of facial recognition technology. Unrestrained use of FRTs could bring more people unwillingly or unwittingly into the scope of law enforcement investigations, and the system could be misused in a manner that violates constitutional rights or community norms. To prepare for the public briefing and meeting on September 4th, the NAIAC invites public comment on the discussion draft, titled `Discussing a Framework for the Responsible Use of Facial Recognition Technology in Law Enforcement.' This document will be available via a link on the published agenda before the meeting. This discussion is intended to inform future recommendations from the NAIAC LE to the full NAIAC committee concerning the limited and responsible use of FRTs.

Additional information, including the speaker names, will be available on the agenda and posted online. Members of the public interested in reviewing the agenda in advance and viewing the sessions are encouraged to visit https://www.nist.gov/itl/national-artificial-intelligence-advisory-committee-naiac for session details and to register to watch virtually. The agenda items may change to accommodate NAIAC business. The final agenda will be posted on the NIST website at https://www.nist.gov/itl/national-artificial-intelligence-advisory-committee-naiac.

Comments: Individuals and representatives of organizations who would like to offer comments and suggestions related to items on the Committee's agenda for this meeting are invited to submit comments in advance of the event. Please note that all comments submitted via email will be treated as public documents and will be made available for public inspection. For consideration prior to this meeting, all comments must be submitted via email with the subject line “September 4, 2024, NAIAC Public Meeting” to naiac@nist.gov by 5 p.m. Eastern Time, August 23, 2024. NIST will not accept comments accompanied by a request that part or all of the comment be treated confidentially because of its business proprietary nature or for any other reason. Therefore, do not submit confidential business information or otherwise sensitive, protected, or personal information, such as account numbers, Social Security numbers, or names of other individuals. Members of the public may also submit written comments to the NAIAC at any time.

Virtual Meeting Registration Instructions: The meeting will be broadcast via web conference. Requests for special accommodations may be made by emailing cheryl.gendron@nist.gov. Registration is required to view the web conference. Instructions on how to register will be made available at https://www.nist.gov/itl/national-artificial-intelligence-advisory-committee-naiac. Registration will remain open until the conclusion of the meeting.

Tamiko Ford,
NIST Executive Secretariat.

[FR Doc. 2024-18596 Filed 8-19-24; 8:45 am]

BILLING CODE 3510-13-P